DEPARTMENT OF HEALTH AND HUMAN SERVICES

Centers for Disease Control and Prevention

[Docket No. CDC-2019-0068; NIOSH-324]

State-Based Occupational Health Surveillance; Request for Information and Meeting Notice

AGENCY: Centers for Disease Control and Prevention, HHS.

ACTION: Notice of public teleconference meeting and request for information.

SUMMARY: The National Institute for Occupational Safety and Health (NIOSH), within the Centers for Disease Control and Prevention (CDC), announces a public teleconference meeting and an opportunity to comment on funding mechanisms and other considerations for state-based occupational health surveillance.

DATES: Comments must be received October 18, 2019. The public teleconference meeting will be held on Monday, September 16, 2019, 2 p.m. to 4 p.m. EST, or after the last public commenter in attendance has spoken, whichever occurs first. The public meeting will be held as a web-based teleconference available by remote access.

ADDRESSES: You may submit written comments, identified by docket numbers CDC-2019-0068 and NIOSH-324, by either of the following two methods:

• Federal eRulemaking Portal: http://www.regulations.gov Follow the instructions for submitting comments.

• Mail: National Institute for Occupational Safety and Health, NIOSH Docket Office, 1090 Tusculum Avenue, MS C-34, Cincinnati, Ohio 45226-1998.

Instructions: All information received in response to this notice must include the agency name and docket number [CDC-2019-0068; NIOSH-324]. All relevant comments received will be posted without change to http://www.regulations.gov, including any personal information provided.

FOR FURTHER INFORMATION CONTACT: Kerry Souza, 395 E St SW, Washington, DC 20004; phone: 202-245-0639 (not a toll free number); email: ksouza@cdc.gov.

SUPPLEMENTARY INFORMATION:

Request for Information

State health agencies have a critical role in the identification and prevention of occupational illnesses and injuries. NIOSH has supported state agencies (primarily departments of public health and, in some cases, departments of labor) since the 1970s, through a combination of funding and technical assistance.¹ Since that time, NIOSH has supported states to build capacity in occupational safety and health, ranging from the development of case-based surveillance to creating focused public health interventions addressing the occupational health needs of higher risk populations. The work of these state programs exemplifies the concept of “information for action” by ensuring that collection, analysis, interpretation, and dissemination of occupational health data are linked to prevention and control activities. Numerous examples of these successes can be found in the published literature, in state reports and on state websites, and NIOSH website topic pages.

¹ Eligible applicants include state and other government entities such as local, county, or tribal health departments, henceforth referred to as `states.'

In 2019, NIOSH funded 26 state occupational health surveillance programs of varying sizes and capacities. The portfolio of state based activities includes 49 projects addressing work related morbidity and mortality, exposure reduction, or special populations of interest.² These states are funded through a research cooperative agreement mechanism. The most recent (2014) announcement can be found at the following web address: https://grants.nih.gov/grants/guide/pa-files/PAR-14-275.html.

² See https://www.cdc.gov/niosh/oep/statesurv.html.

For its state-based surveillance and intervention cooperative agreements, NIOSH is considering switching from a research cooperative agreement approach to a non-research cooperative agreement approach. CDC generally defines public health research as an activity that develops or contributes to generalizable knowledge to improve public health practice; a non-research activity is one that is designed to identify and control a health problem or improve a public health program or service.³ A non-research mechanism could be a public health practice cooperative agreement or another cooperative agreement type, and may or may not be a better fit for the scope of activities ordinarily conducted by occupational health programs in a public health context.

³ CDC [2010], Distinguishing Public Health Research and Public Health Nonresearch Policy, https://www.cdc.gov/od/science/integrity/docs/cdc-policy-distinguishing-public-health-research-nonresearch.pdf.

Under the research mechanism currently used, submissions for funding are evaluated on the following criteria: Significance, investigators, innovation, approach, and environment. Under a non-research approach, proposals would likely be evaluated based upon how well the proposal identifies important occupational health burdens in the state; approach for tracking these concerns; relevance and potential impact of the public health actions proposed; and organizational capacity of the applicant to achieve the proposal.

This exploration of funding mechanism type presents an opportunity for NIOSH to receive stakeholder input and identify the best type from a programmatic, logistic, and administrative point of view. Exploring this and other approaches is recommended by the National Academies of Science, Engineering and Medicine in its report “A Smarter National Surveillance System for Occupational Safety and Health in the 21st Century.” ⁴

⁴ See https://www.nap.edu/catalog/24835/a-smarter-national-surveillance-system-for-occupational-safety-and-health-in-the-21st-century.

To identify and assess different options, NIOSH plans to conduct the following activities: (1) Hold the public teleconference announced in this notice to receive comments regarding funding approaches for its state based occupational health surveillance programs and (2) seek additional public comments through this docket.

NIOSH is interested in comments related to the funding mechanism as it relates to impact on the conduct of state agency activities, including comments on the following questions:

1. What are the advantages and disadvantages to the states if NIOSH continues using research cooperative agreements for funding of state occupational health surveillance programs?

2. What are the advantages and disadvantages to the states if NIOSH changed to using a non-research mechanism for funding state occupational health surveillance programs?

3. If the non-research mechanism would specifically prohibit the use of any funds for research, would this have a negative effects on state occupational health surveillance program development or direction? If so, please describe.

4. Only research cooperative agreements are covered by Certificates of Confidentiality that protect the confidentiality of sensitive information collected from research subjects by our grantees. Do states need or use these certificates?

5. Would a non-research cooperative agreement mechanism impact the ability of universities acting as bonafide agents of the states to apply and receive funding under this mechanism? If so, how?

6. Non-research proposals undergo “objective review,” which employs CDC reviewers in place of external peer reviewers. Scoring of applications would likely use the criteria described above (occupational health burdens in the state; approach for tracking these concerns; relevance and potential impact of the public health actions proposed; and organizational capacity of the state). Are there concerns related to these criteria or the use of objective review?

7. It is possible that NIOSH will continue to employ an external peer review process for scoring of applications. Are there concerns related to the use of external peer review?

8. Using the principles of Burden, Need and Impact,⁵ the new Notice of Funding Opportunity will focus on surveillance activities that address the occupational safety and health burden of the applicant state. How will this directive impact the applying states?

⁵ See https://www.cdc.gov/niosh/programs/pps/bni.html for more information about Burden, Need and Impact.

9. The 2014 cooperative agreement (PAR-14-275) funded three programmatic levels (fundamental, fundamental plus, and expanded programs) to address the varying levels of surveillance capacity of applicant states. Should this 3-tier funding strategy be continued? If not, what other strategy might be considered?

10. How does the 3-tier funding strategy affect states' ability to explore emerging occupational safety and health issues?

11. Occupational Health Indicators ⁶ have been a central component of the NIOSH state based surveillance program. What are the advantages and disadvantages to your state program of continuing to calculate and use the Occupational Health Indicators?

⁶ See https://www.cste.org/page/OHIndicators for more information about Occupational Health Indicators.

Public Meeting

NIOSH will hold a public teleconference meeting to solicit comments on the future funding mechanism of its state-based occupational health surveillance program. The meeting is open to the public, limited only by the capacity of 250 connections to the web-based conference.

Confirm your attendance to this meeting by sending an email to ksouza@cdc.gov by September 9, 2019. An email confirming registration will be sent from NIOSH and will include details needed to participate.

Requests to make a statement at the public meeting should be emailed to ksouza@cdc.gov by September 2, 2019. All requests to make statements should contain the name, address, telephone number, and relevant business affiliations of the presenter. Presenters will be assigned a 5-minute slot on the agenda. Oral statements only will be permitted—presentations of slides will not be permitted. NIOSH will confirm presentation requests by email, and will provide additional instructions regarding the presentation, including the approximate start time for the presentation.

If a presenter is not in attendance when his/her presentation is scheduled to begin, the remaining presenters will be heard in order. After the last scheduled presenter is heard, those who missed their opportunity may be allowed to present, limited by time available.

Attendees who wish to speak, but did not submit a request for the opportunity to make a presentation, may be given this opportunity after the scheduled presenters are heard, at the discretion of the presiding official and limited by time available. Those who do not have an opportunity to comment during the teleconference are encouraged to submit written comments to the NIOSH docket.

The public meeting will be recorded, transcribed, and posted without change to http://www.regulations.gov, including any personal information provided.

Frank J. Hearl,
Chief of Staff, National Institute for Occupational Safety and Health, Centers for Disease Control and Prevention, Department of Health and Human Services.

[FR Doc. 2019-17782 Filed 8-16-19; 8:45 am]

BILLING CODE 4163-18-P